DEPARTMENT OF LABOR

Employment and Training Administration

Proposed Information Collection Request of the Resource Justification Model (RJM); Comment Request

AGENCY: Employment and Training Administration (ETA), Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Written comments must be submitted to the office listed in the addressee section below on or before May 6, 2013.

ADDRESSES: Send comments to John Ake, U.S. Department of Labor, Employment and Training Administration, Office of Unemployment Insurance, 200 Constitution Avenue NW., Frances Perkins Bldg. Room S-4524, Washington, DC 20210, telephone number (202) 693-2865 (this is not a toll-free number). Email address is Ake.John@dol.gov and fax number is (202) 693-2874 (this is not a toll-free number).

SUPPLEMENTARY INFORMATION:

I. Background

The collection of actual Unemployment Insurance (UI) administrative cost data from states' accounting records and projected expenditures for upcoming years is accomplished through the Resource Justification Model (RJM) data collection instrument. The data collected consists of program expenditures and hours worked by state staff, broken out by functional activity, for the most recent two years of expenditures. This actual cost data informs ETA's administrative funding allocation model so that state UI program administration funds are allocated in proportion to the level of state activities.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the information collection on those who are to respond, including the use of appropriate automated, electronic, mechanical, or other technological collection techniques or other forms of information technology, e.g., permitting electronic submissions of responses.

III. Current Actions

Type of Review: Extension without change.

Title: Resource Justification Model.

OMB Number: 1205-0430.

Affected Public: State Workforce Agencies.

Total Respondents: 53 State Workforce Agencies.

Frequency: Annually.

Total Responses: 53 respondents x 4 annual reports submitted = 212 responses

Average Estimated Response Time: 123 hours.

Total Estimated Burden Hours: 6,519.

Form Activity | Total respondents | Frequency | Total responses | Average time per response | Total estimated burden
Crosswalk | 53 | Annually | 53 | 108 hrs. | 5,724 hrs.
ACCT SUM | 53 | Annually | 53 | 4 hours | 212 hrs.
RJM 1-6 | 53 | Annually | 53 | 3 hours | 159 hours.
Narrative | 53 | Annually | 53 | 8 hours | 424 hours.
TOTALS |  |  | 212 |  | 6,519 hrs

Total Burden Cost (capital/startup): $0.

Total Burden Cost (operating/maintaining): $0.

Dated: Signed in Washington, DC, on this 25th day of February, 2013.
Jane Oates,
Assistant Secretary for Employment and Training, Labor.

[FR Doc. 2013-05264 Filed 3-6-13; 8:45 am]

BILLING CODE 4510-FW-P